DEPARTMENT OF COMMERCE

Foreign-Trade Zones Board

[B-40-2013]

Foreign-Trade Zone 59—Lincoln, Nebraska; Authorization of Production Activity; CNH America, LLC; Subzone 59B (Agricultural Equipment Production); Grand Island, Nebraska

On April 17, 2013, the Lincoln-Foreign Trade Zone, Inc., grantee of FTZ 59, submitted a notification of proposed production activity to the Foreign-Trade Zones (FTZ) Board on behalf of CNH America, LLC, within Subzone 59B, in Grand Island, Nebraska.

The notification was processed in accordance with the regulations of the FTZ Board (15 CFR part 400), including notice in the Federal Register inviting public comment (78 FR 27953, 05-13-2013). The FTZ Board has determined that no further review of the activity is warranted at this time. The production activity described in the notification is authorized, subject to the FTZ Act and the Board's regulations, including Section 400.14.

Dated: August 15, 2013.
Andrew McGilvray,
Executive Secretary.

[FR Doc. 2013-20445 Filed 8-20-13; 8:45 am]

BILLING CODE 3510-DS-P